ENVIRONMENTAL PROTECTION AGENCY

[FRL-9928-74-OECA]

Proposed Information Collection Request; Comment Request; See Item Specific ICR Titles Provided in the Text; See the Item Specific Docket Numbers Provided in the Text

AGENCY: Environmental Protection Agency (EPA).

ACTION: Notice.

SUMMARY: The Environmental Protection Agency (EPA) is planning to submit the below listed information collection requests (ICR) (See item specific ICR title, EPA ICR Number and OMB Control Number provided in the text) to the Office of Management and Budget (OMB) for review and approval in accordance with the Paperwork Reduction Act (44 U.S.C. 3501 et seq.). Before doing so, EPA is soliciting public comments on specific aspects of the proposed information collection as described below. These are proposed extensions of the currently approved ICRs. An Agency may not conduct or sponsor and a person is not required to respond to a collection of information unless it displays a currently valid OMB control number.

DATES: Comments must be submitted on or before August 4, 2015.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or Part 63, Subpart A, as well as the applicable specific standards. This includes submitting initial notifications, performance tests and periodic reports and results, and maintaining records of the occurrence and duration of any startup, shutdown, or malfunction in the operation of an affected facility, or any period during which the monitoring system is inoperative. These reports are used by EPA to determine compliance with the standards.

(1) Docket ID Number: EPA-HQ-OECA-2011-0271; Title: NESHAP for Integrated Iron and Steel Manufacturing (40 CFR part 63, subpart FFFFF); EPA ICR Number 2003.06, OMB Control Number 2060-0517; Expiration Date: October 31, 2015.

Respondents: Integrated iron and steel plants.

Respondent's obligation to respond: Mandatory (40 CFR part 63, subpart FFFFF).

Estimated number of respondents: 18 (total).

Frequency of response: Initially, occasionally and semiannually.

Estimated annual burden: 18,421 hours.

Estimated annual cost: $1,832,122, includes $67,002 annualized capital or operation & maintenance (O&M) costs.

Changes in Estimates: There is no change in burden hours from the previous ICR.

(2) Docket ID Number: EPA-HQ-OECA-2011-0256; Title: Emission Guidelines for Existing Other Solid Waste Incineration Units (40 CFR part 60, subpart FFFF); EPA ICR Number 2164.05, OMB Control Number 2060-0562; Expiration Date: October 31, 2015.

Additional information: The emission guidelines address existing OSWI units that commenced construction before proposal of the emission guidelines (December 9, 2004). The emission guidelines do not apply directly to existing OSWI unit owners and operators. The emission guidelines can be considered a model regulation that a State agency can use in developing plans to implement the emission guidelines. If a State does not develop, adopt, and submit an approvable State plan, the Federal government must develop a plan to implement the emission guidelines. This ICR includes the burden for an affected entity even if it is ultimately regulated under a State or Federal plan.

Respondents: Owners or operators of other solid waste incineration units.

Respondent's obligation to respond: Mandatory (40 CFR part 60, subpart FFFF).

Estimated number of respondents: 99 (total).

Frequency of response: Initially, semiannually and annually.

Estimated annual burden: 70,132 hours.

Estimated annual cost: $7,215,028, includes $495,000 annualized capital or O&M costs.

Changes in Estimates: There is no change in burden hours from the previous ICR.

(3) Docket ID Number: EPA-HQ-OECA-2011-0264; Title: NSPS for Stationary Compression Ignition Internal Combustion Engines (40 CFR part 60, subpart IIII); EPA ICR Number 2196.05, OMB Control Number 2060-0590; Expiration Date: October 31, 2015.

Respondents: Owners or operators of stationary compression ignition internal combustion engines.

Respondent's obligation to respond: Mandatory (40 CFR part 60, subpart IIII).

Estimated number of respondents: 206,410 (total).

Frequency of response: Initially and occasionally.

Estimated annual burden: 193,707 hours.

Estimated annual cost: $18,803,009, includes $242,092 annualized capital or O&M costs.

Changes in Estimates: There is an expected increase in hours in the total estimated respondent burden compared with the ICR currently approved by OMB. This increase is due to an increase in the number of estimated respondents.

(4) Docket ID Number: EPA-HQ-OECA-2012-0529; Title: NESHAP for Mercury (40 CFR part 61, subpart E); EPA ICR Number 0113.12, OMB Control Number 2060-0097; Expiration Date: December 31, 2015.

Respondents: Facilities that process mercury ore to recovery mercury, use mercury chlor-alkali cells to produce chlorine gas and alkali metal hydroxide, and incinerate or dry wastewater treatment plant sludge.

Respondent's obligation to respond: Mandatory (40 CFR part 61, subpart E).

Estimated number of respondents: 107 (total).

Frequency of response: Initially, occasionally, semiannually and annually.

Estimated annual burden: 20,490 hours.

Estimated annual cost: $1,984,018, includes $0 annualized capital or O&M costs.

Changes in Estimates: There is no change in burden hours from the previous ICR.

(5) Docket ID Number: EPA-HQ-OECA-2012-0530; Title: NSPS for Metal Furniture Coating (40 CFR part 60, subpart EE); EPA ICR Number 0649.12, OMB Control Number 2060-0106; ICR Status: This ICR is scheduled to expire on December 31, 2015.

Respondents: Metal furniture coating facilities.

Respondent's obligation to respond: Mandatory (40 CFR part 60, subpart EE).

Estimated number of respondents: 400 (total).

Frequency of response: Initially, occasionally and semiannually.

Estimated annual burden: 56,074 hours.

Estimated annual cost: $6,269,572, includes $840,000 annualized capital or O&M costs.

Changes in Estimates: There is no change in burden hours from the previous ICR.

(6) Docket ID Number: EPA-HQ-OECA-2012-0531; Title: NSPS for Surface Coating of Large Appliances (40 CFR part 60, subpart SS); EPA ICR Number 0659.13, OMB Control Number 2060-0108; Expiration Date: December 31, 2015.

Respondents: Large appliance coating facilities.

Respondent's obligation to respond: Mandatory (40 CFR part 60, subpart SS).

Estimated number of respondents: 72 (total).

Frequency of response: Initially and semiannually.

Estimated annual burden: 7,659 hours.

Estimated annual cost: $750,011, includes $8,400 annualized capital or O&M costs.

Changes in Estimates: There is no change in burden hours from the previous ICR.

(7) Docket ID Number: EPA-HQ-OECA-2012-0532; Title: NSPS for Beverage Can Surface Coating (40 CFR part 60, subpart WW); EPA ICR Number 0663.12, OMB Control Number 2060-0001; Expiration Date: December 31, 2015.

Respondents: Beverage can surface coating facilities.

Respondent's obligation to respond: Mandatory (40 CFR part 60, subpart WW).

Estimated number of respondents: 48 (total).

Frequency of response: Initially, occasionally and semiannually.

Estimated annual burden: 5,134 hours.

Estimated annual cost: $597,892, includes $100,800 annualized capital or O&M costs.

Changes in Estimates: There is no change in burden hours from the previous ICR.

(8) Docket ID Number: EPA-HQ-OECA-2012-0528; Title: NSPS for Synthetic Fiber Production Facilities (40 CFR part 60, subpart HHH); EPA ICR Number 1156.13, OMB Control Number 2060-0059; Expiration Date: December 31, 2015.

Respondents: Synthetic fiber production facilities.

Respondent's obligation to respond: Mandatory (40 CFR part 60, subpart HHH).

Estimated number of respondents: 22 (total).

Frequency of response: Initially, quarterly and semiannually.

Estimated annual burden: 1,860 hours.

Estimated annual cost: $345,060, includes $165,000 annualized capital or O&M costs.

Changes in Estimates: There is no change in burden hours from the previous ICR.

(9) Docket ID Number: EPA-HQ-OECA-2009-0422; Title: NESHAP for Chromium Emissions from Hard and Decorative Chromium Electroplating and Chromium Anodizing Tanks (40 CFR part 63, subpart N); EPA ICR Number 1611.11, OMB Control Number 2060-0327; Expiration Date: December 31, 2015.

Respondents: Chromium electroplating and anodizing facilities.

Respondent's obligation to respond: Mandatory (40 CFR part 63, subpart N).

Estimated number of respondents: 1,343 (total).

Frequency of response: Initially, quarterly, semiannually and annually.

Estimated annual burden: 177,695 hours.

Estimated annual cost: $32,515,541, includes $26,924,372 annualized capital or O&M costs.

Changes in Estimates: There is a likely a decrease in burden hours from the previous ICR to reflect the cost of ongoing burden after the initial three-year compliance period of the rule amendment.

(10) Docket ID Number: EPA-HQ-OECA-2012-0505; Title: NESHAP for Secondary Aluminum Production (40 CFR part 63, subpart RRR); EPA ICR Number 1894.08, OMB Control Number 2060-0433; Expiration Date: December 31, 2015.

Respondents: Secondary aluminum production facilities.

Respondent's obligation to respond: Mandatory (40 CFR part 63, subpart RRR).

Estimated number of respondents: 1,834 (total).

Frequency of response: Initially, occasionally and semiannually.

Estimated annual burden: 101,856 hours.

Estimated annual cost: $10,088,531, includes $225,750 annualized capital or O&M costs.

Changes in Estimates: There is an expected increase in burden hours due to an increase in the number of subject area sources.

(11) Docket ID Number: EPA-HQ-OECA-2012-0518; Title: NESHAP for Metal Furniture Surface Coating (40 CFR part 63, subpart RRRR); EPA ICR Number 1952.06, OMB Control Number 2060-0518; Expiration Date: December 31, 2015.

Respondents: Metal furniture surface coating facilities.

Respondent's obligation to respond: Mandatory (40 CFR part 63, subpart RRRR).

Estimated number of respondents: 583 (total).

Frequency of response: Initially, occasionally and semiannually.

Estimated annual burden: 190,408 hours.

Estimated annual cost: $22,472,732, includes $699,600 annualized capital or O&M costs.

Changes in Estimates: There is no change in burden hours from the previous ICR.

(12) Docket ID Number: EPA-HQ-OECA-2011-0275; Title: NESHAP for Hydrochloric Acid Production (40 CFR part 63, subpart NNNNN); EPA ICR Number 2032.08, OMB Control Number 2060-0529; Expiration Date: December 31, 2015.

Respondents: Hydrochloric acid production facilities.

Respondent's obligation to respond: Mandatory (40 CFR part 63, subpart NNNNN).

Estimated number of respondents: 81 (total).

Frequency of response: Initially, occasionally and semiannually.

Estimated annual burden: 105,033 hours.

Estimated annual cost: $10,789,637, includes $703,561 annualized capital or O&M costs.

Changes in Estimates: There is an expected increase in burden hours due to an increase in the respondent universe.

(13) Docket ID Number: EPA-HQ-OECA-2011-0274; Title: NESHAP for the Wood Building Products Surface Coating Industry (40 CFR part 63, subpart QQQQ); EPA ICR Number 2034.06, OMB Control Number 2060-0510; Expiration Date: December 31, 2015.

Respondents: Wood building products surface coating facilities.

Respondent's obligation to respond: Mandatory (40 CFR part 63, subpart QQQQ).

Estimated number of respondents: 232 (total).

Frequency of response: Initially, occasionally and semiannually.

Estimated annual burden: 75,771 hours.

Estimated annual cost: $7,554,577, includes $278,400 annualized capital or O&M costs.

Changes in Estimates: There is no change in burden hours from the previous ICR.

(14) Docket ID Number: EPA-HQ-OECA-2011-0228; Title: NSPS for Petroleum Refineries for which Construction, Reconstruction, or Modification Commenced after May 14, 2007 (40 CFR part 60, subpart Ja); EPA ICR Number 2263.05, OMB Control Number 2060-0602; Expiration Date: December 31, 2015.

Respondents: Petroleum refineries constructed, reconstructed, ore modified after May 14, 2007.

Respondent's obligation to respond: Mandatory (40 CFR part 60, subpart Ja).

Estimated number of respondents: 150 (total).

Frequency of response: Initially and semiannually.

Estimated annual burden: 54,572 hours.

Estimated annual cost: $24,934,110, includes $20,016,000 annualized capital or O&M costs.

Changes in Estimates: There is a likely decrease in burden hours from the previous ICR to reflect the ongoing rule burden subsequent to the initial compliance period.

(15) Docket ID Number: EPA-HQ-OECA-2011-0526; Title: NESHAP for Aluminum, Copper, and Other Non-Ferrous Foundries (40 CFR part 63, subpart ZZZZZZ); EPA ICR Number 2332.04, OMB Control Number 2060-0630; Expiration Date: December 31, 2015.

Respondents: Aluminum, copper, and other non-ferrous foundries.

Respondent's obligation to respond: Mandatory (40 CFR part 63, subpart ZZZZZZ).

Estimated number of respondents: 318 (total).

Frequency of response: Initially, occasionally and semiannually.

Estimated annual burden: 10,482 hours. Burden is defined at 5 CFR 1320.03(b)

Estimated annual cost: $1,015,005, includes $0 annualized capital or O&M costs.

Changes in Estimates: There is no change in burden hours from the previous ICR.

(16) Docket ID Number: EPA-HQ-OECA-2011-0208; Title: NESHAP for Pulp and Paper Production (40 CFR part 63, subpart S); EPA ICR Number 2452.03, OMB Control Number 2060-0681; Expiration Date: December 31, 2015.

Respondents: Pulp and paper production facilities.

Respondent's obligation to respond: Mandatory (40 CFR part 63, subpart S).

Estimated number of respondents: 114 (total).

Frequency of response: Initially, occasionally and semiannually.

Estimated annual burden: 52,304 hours.

Estimated annual cost: $5,780,270, includes $841,000 annualized capital or O&M costs.

Changes in Estimates: There is likely a decrease in burden hours from the previous ICR to account for the ongoing burden after the initial compliance period.

(17) Docket ID Number: EPA-HQ-OECA-2012-0533; Title: NSPS for the Phosphate Fertilizer Industry (40 CFR part 60, subparts T, U, V, W, and X); EPA ICR Number 1061.13, OMB Control Number 2060-0037; Expiration Date: January 31, 2016.

Respondents: Phosphate fertilizer manufacturing facilities.

Respondent's obligation to respond: Mandatory (40 CFR part 60, subparts T, U, V, W and X).

Estimated number of respondents: 13 (total).

Frequency of response: Initially and semiannually.

Estimated annual burden: 1,373 hours.

Estimated annual cost: $453,090, includes $320,190 annualized capital or O&M costs.

Changes in Estimates: There is no change in burden hours from the previous ICR.

(18) Docket ID Number: EPA-HQ-OECA-2012-0517; Title: NSPS for Emission Guidelines and Compliance Times for Small Municipal Waste Combustion Units Constructed on or before August 30, 1999 (40 CFR part 60, subpart BBBB); EPA ICR Number 1901.06, OMB Control Number 2060-0424; Expiration Date: January 31, 2016.

Respondents: Small municipal waste combustion units.

Respondent's obligation to respond: Mandatory (40 CFR part 60, subpart BBBB).

Estimated number of respondents: 23 (total).

Frequency of response: Initially, semiannually and annually.

Estimated annual burden: 100,854 hours.

Estimated annual cost: $10,802,579, includes $1,036,800 annualized capital or O&M costs.

Changes in Estimates: There is no change in burden hours from the previous ICR.

(19) Docket ID Number: EPA-HQ-OECA-2012-0525; Title: NESHAP for Chemical Manufacturing Area Sources (40 CFR part 63 Subpart VVVVVV); EPA ICR Number 2323.06, OMB Control Number 2060-0621; Expiration Date: January 31, 2016.

Additional information: These standards apply to nine area source categories in the chemical manufacturing sector: Agricultural Chemicals and Pesticides Manufacturing, Cyclic Crude and Intermediate Production, Industrial Inorganic Chemical Manufacturing, Industrial Organic Chemical Manufacturing, Inorganic Pigments Manufacturing, Miscellaneous Organic Chemical Manufacturing, Plastic Materials and Resins Manufacturing, Pharmaceutical Production, and Synthetic Rubber Manufacturing. The requirements apply to process vents, storage tanks, equipment leaks, wastewater systems, transfer operations, and heat exchange systems at affected sources in each area source category and are combined in one subpart. The standards are based on EPA's determination of generally available control technology (GACT) or management practices for each area source category.

Respondents: Chemical manufacturing area source facilities.

Respondent's obligation to respond: Mandatory (40 CFR part 63, subpart VVVVVV).

Estimated number of respondents: 452 (total).

Frequency of response: Initially and semiannually.

Estimated annual burden: 10,586 hours.

Estimated annual cost: $905,135, includes $98,271 annualized capital or O&M costs.

Changes in Estimates: There is likely an increase in burden hours from the previous ICR due to an increase in the number respondents.

(20) Docket ID Number: EPA-HQ-OECA-2012-0534; Title: NSPS for Surface Coating of Plastic Parts for Business Machines (40 CFR part 60, subpart TTT); EPA ICR Number 1093.11, OMB Control Number 2060-0162; Expiration Date: February 29, 2016.

Respondents: Facilities that perform industrial surface coating on plastic parts for business machines.

Respondent's obligation to respond: Mandatory (40 CFR part 60, subpart TTT).

Estimated number of respondents: 10 (total).

Frequency of response: Initially, quarterly and semiannually.

Estimated annual burden: 979 hours.

Estimated annual cost: $94,725, includes $0 annualized capital or O&M costs.

Changes in Estimates: There is no change in burden hours from the previous ICR.

(21) Docket ID Number: EPA-HQ-OECA-2012-0535; Title: NSPS for Secondary Lead Smelters (40 CFR part 60, subpart L); EPA ICR Number 1128.11, OMB Control Number 2060-0080; Expiration Date: February 29, 2016.

Respondents: Secondary lead smelting facilities.

Respondent's obligation to respond: Mandatory (40 CFR part 60, subpart L).

Estimated number of respondents: 25 (total).

Frequency of response: Initially.

Estimated annual burden: 37 hours.

Estimated annual cost: $3,631, includes $0 annualized capital or O&M costs.

Changes in Estimates: There is no change in burden hours from the previous ICR.

(22) Docket ID Number: EPA-HQ-OECA-2011-0239; Title: NSPS for Grain Elevators (40 CFR part 60, subpart DD); EPA ICR Number 1130.11, OMB Control Number 2060-0082; Expiration Date: February 29, 2016.

Respondents: Grain elevator operations.

Respondent's obligation to respond: Mandatory (40 CFR part 60, subpart DD).

Estimated number of respondents: 200 (total).

Frequency of response: Initially and annually.

Estimated annual burden: 2,070 hours.

Estimated annual cost: $198,346, includes $0 annualized capital or O&M costs.

Changes in Estimates: There is no change in burden hours from the previous ICR.

(23) Docket ID Number: EPA-HQ-OECA-2011-0506; Title: NSPS for Small Municipal Waste Combustors (40 CFR part 60, subpart AAAA); EPA ICR Number 1900.06, OMB Control Number 2060-0423; Expiration Date: February 29, 2016.

Respondents: Small municipal waste combustors.

Respondent's obligation to respond: Mandatory (40 CFR part 60, subpart AAAA).

Estimated number of respondents: 3 (total).

Frequency of response: Initially, semiannually and annually.

Estimated annual burden: 12,351 hours.

Estimated annual cost: $1,364,227, includes $168,336 annualized capital or O&M costs.

Changes in Estimates: There is an expected increase in burden hours from the previous ICR due to an increase in one respondent being subject to the rule.

(24) Docket ID Number: EPA-HQ-OECA-2012-0524; Title: NSPS for Stationary Combustion Turbines (40 CFR part 60, subpart KKKK); EPA ICR Number 2177.06, OMB Control Number 2060-0582; Expiration Date: February 29, 2016.

Respondents: New stationary combustion turbines.

Respondent's obligation to respond: Mandatory (40 CFR part 60, subpart KKKK).

Estimated number of respondents: 448 (total).

Frequency of response: Initially and semiannually.

Estimated annual burden: 44,394 hours.

Estimated annual cost: $4,298,616, includes $0 annualized capital or O&M costs.

Changes in Estimates: There is an expected increase in burden hours from the previous ICR due to a growth in the respondent universe.

(25) Docket ID Number: EPA-HQ-OECA-2012-0497; Title: NSPS for Fossil Fuel Fired Steam Generating Units (40 CFR part 63, subpart D); EPA ICR Number 1052.11, OMB Control Number 2060-0026; Expiration Date: March 31, 2016.

Respondents: Fossil fuel fired steam generating units.

Respondent's obligation to respond: Mandatory (40 CFR part 63, subpart D).

Estimated number of respondents: 660 (total).

Frequency of response: Semiannually.

Estimated annual burden: 70,777 hours.

Estimated annual cost: $16,753,220, includes $9,900,000 annualized capital or O&M costs.

Changes in Estimates: There is no change in burden hours from the previous ICR.

(26) Docket ID Number: EPA-HQ-OECA-2012-0498; Title: NSPS for Coal Preparation and Processing Plants (40 CFR part 60, subpart Y); EPA ICR Number 1062.14, OMB Control Number 2060-0122; Expiration Date: March 31, 2016.

Respondents: Coal preparation and processing facilities.

Respondent's obligation to respond: Mandatory (40 CFR part 60, subpart Y).

Estimated number of respondents: 1,037 (total).

Frequency of response: Initially and semiannually.

Estimated annual burden: 41,998 hours.

Estimated annual cost: $4,414,741, includes $348,040 annualized capital or O&M costs.

Changes in Estimates: There is an expected increase in burden hours from the previous ICR due to a growth in the respondent universe.

(27) Docket ID Number: EPA-HQ-OECA-2012-0655; Title: NSPS for Ammonium Sulfate Manufacturing Plants (40 CFR part 60, subpart PP); EPA ICR Number 1066.08, OMB Control Number 2060-0032; Expiration Date: March 31, 2016.

Respondents: Ammonium sulfate manufacturing plants.

Respondent's obligation to respond: Mandatory (40 CFR part 60, subpart PP).

Estimated number of respondents: 2 (total).

Frequency of response: Semiannually.

Estimated annual burden: 284 hours.

Estimated annual cost: $27,449, includes $0 annualized capital or O&M costs.

Changes in Estimates: There is no change in burden hours from the previous ICR.

(28) Docket ID Number: EPA-HQ-OECA-2011-0234; Title: NESHAP for Petroleum Refineries (40 CFR part 63, subpart CC); EPA ICR Number 1692.08, OMB Control Number 2060-0340; Expiration Date: March 31, 2016.

Respondents: Petroleum refineries.

Respondent's obligation to respond: Mandatory (40 CFR part 63, subpart CC).

Estimated number of respondents: 148 (total).

Frequency of response: Initially, occasionally, semiannually and annually.

Estimated annual burden: 549,980 hours.

Estimated annual cost: $66,661,569, includes $178,042 annualized capital or O&M costs.

Changes in Estimates: There is no change in burden hours from the previous ICR.

(29) Docket ID Number: EPA-HQ-OECA-2012-0502; Title: NSPS for Hospital/Medical/Infectious Waste Incinerators (40 CFR part 60, subpart Ec); EPA ICR Number 1730.10, OMB Control Number 2060-0363; Expiration Date: March 31, 2016.

Respondents: Hospital/medical/infectious waste incinerators.

Respondent's obligation to respond: Mandatory (40 CFR part 60, subpart Ec).

Estimated number of respondents: 5 (total).

Frequency of response: Initially, occasionally, semiannually and annually.

Estimated annual burden: 3,912 hours.

Estimated annual cost: $664,375, includes $285,549 annualized capital or O&M costs.

Changes in Estimates: There is an expected increase in burden hours from the previous ICR due to an increase in the number of respondents.

(30) Docket ID Number: EPA-HQ-OECA-2013-0337; Title: NESHAP for Portland Cement (40 CFR part 63, subpart LLL); EPA ICR Number 1801.12, OMB Control Number 2060-0416; Expiration Date: March 31, 2016.

Respondents: Portland cement plants, except for kilns and in-line kiln/raw mills that burn hazardous waste and are subject to 40 CFR part 63, subpart EEE.

Respondent's obligation to respond: Mandatory (40 CFR part 63, subpart LLL).

Estimated number of respondents: 87 (total).

Frequency of response: Initially and semiannually.

Estimated annual burden: 80,433 hours.

Estimated annual cost: $69,897,805, includes $62,080,116 annualized capital or O&M costs.

Changes in Estimates: There is likely a change in labor hours from the previous ICR to reflect the burden for ongoing rule compliance.

(31) Docket ID Number: EPA-HQ-OECA-2012-0503; Title: Emission Guidelines for Large Municipal Waste Combustors Constructed on or Before September 20, 1994 (40 CFR part 60, subpart Cb); EPA ICR Number 1847.07, OMB Control Number 2060-0390; Expiration Date: March 31, 2016.

Respondents: Large municipal waste combustors.

Respondent's obligation to respond: Mandatory (40 CFR part 60, subpart Cb).

Estimated number of respondents: 81 (total).

Frequency of response: Initially, occasionally, semiannually and annually.

Estimated annual burden: 394,965 hours.

Estimated annual cost: $52,760,002, includes $1,555,200 annualized capital or O&M costs.

Changes in Estimates: There is no change in burden hours from the previous ICR.

(32) Docket ID Number: EPA-HQ-OECA-2011-0272; Title: NSPS for Hospital/Medical/Infectious Waste Incinerators (40 CFR part 60, subpart Ce and 40 CFR part 62, subpart HHH); EPA ICR Number 1899.08, OMB Control Number 2060-0422; Expiration Date: March 31, 2016.

Respondents: Hospital, medical, infectious waste incinerators.

Respondent's obligation to respond: Mandatory (40 CFR part 60, subpart Ce and Part 62, Subpart HHH).

Estimated number of respondents: 79 (total).

Frequency of response: Initially, occasionally, semiannually and annually.

Estimated annual burden: 60,080 hours.

Estimated annual cost: $6,489,166, includes $742,817 annualized capital or O&M costs.

Changes in Estimates: There is no change in burden hours from the previous ICR.

(33) Docket ID Number: EPA-HQ-OECA-2015-0191; Title: NESHAP for Miscellaneous Organic Chemical Manufacturing (40 CFR part 63, subpart FFFF); EPA ICR Number 1969.06, OMB Control Number 2060-0533; Expiration Date: March 31, 2016.

Respondents: Miscellaneous organic chemical manufacturing facilities.

Respondent's obligation to respond: Mandatory (40 CFR part 63, subpart FFFF).

Estimated number of respondents: 263 (total).

Frequency of response: Initially and semiannually.

Estimated annual burden: 426,474 hours.

Estimated annual cost: $46,919,809, includes $5,624,883 annualized capital or O&M costs.

Changes in Estimates: There is an expected increase in burden hours from the previous ICR due to growth in the respondent universe.

(34) Docket ID Number: EPA-HQ-OECA-2012-0527; Title: NESHAP for Paints and Allied Products Manufacturing Area Source Category (40 CFR part 63, subpart CCCCCCC); EPA ICR Number 2348.04, OMB Control Number 2060-0633; Expiration Date: March 31, 2016.

Respondents: Paints and allied products manufacturing facilities.

Respondent's obligation to respond: Mandatory (40 CFR part 63, subpart CCCCCCC).

Estimated number of respondents: 2,190 (total).

Frequency of response: Initially, occasionally and annually.

Estimated annual burden: 4,533 hours.

Estimated annual cost: $1,172,604, includes $0 annualized capital or O&M costs.

Changes in Estimates: There is no change in burden hours from the previous ICR.

(35) Docket ID Number: EPA-HQ-OECA-2012-0496; Title: NESHAP for Area Sources: Asphalt Processing and Asphalt Roofing Manufacturing (40 CFR part 63, subpart AAAAAAA); EPA ICR Number 2352.04, OMB Control Number 2060-0634; Expiration Date: March 31, 2016.

Respondents: Area source facilities that process asphalt or manufacture asphalt roofing products.

Respondent's obligation to respond: Mandatory (40 CFR part 63, subpart AAAAAAA).

Estimated number of respondents: 75 (total).

Frequency of response: Initially and semiannually.

Estimated annual burden: 2,846 hours.

Estimated annual cost: $276,724, includes $1,125 annualized capital or O&M costs.

Changes in Estimates: There is no change in burden hours from the previous ICR.

(36) Docket ID Number: EPA-HQ-OECA-2012-0653; Title: NSPS for Steel Plants: Electric Arc Furnaces and Argon-Oxygen Decarburization Vessels (40 CFR part 60, subparts AA and AAa); EPA ICR Number 1060.17, OMB Control Number 2060-0038; Expiration Date: April 30, 2016.

Respondents: Steel plants with electric arc furnaces, argon-oxygen decarburization vessels, and dust handling systems.

Respondent's obligation to respond: Mandatory (40 CFR part 60, subparts AA and AAa).

Estimated number of respondents: 98 (total).

Frequency of response: Initially and semiannually.

Estimated annual burden: 61,310 hours.

Estimated annual cost: $6,137,827, includes $201,240 annualized capital or O&M costs.

Changes in Estimates: There is an expected increase in burden hours from the previous ICR due to an increase of one respondent.

(37) Docket ID Number: EPA-HQ-OECA-2012-0659; Title: NESHAP for Perchloroethylene Dry Cleaning Facilities (40 CFR part 63, subpart M); EPA ICR Number 1415.11, OMB Control Number 2060-0234; Expiration Date: April 30, 2016.

Respondents: Dry cleaning facilities that use perchloroethylene.

Respondent's obligation to respond: Mandatory (40 CFR part 63, subpart M).

Estimated number of respondents: 28,012 (total).

Frequency of response: Initially and occasionally.

Estimated annual burden: 1,564,851 hours.

Estimated annual cost: $157,229,928, includes $946,413 annualized capital or O&M costs.

Changes in Estimates: There is no change in burden hours from the previous ICR.

(38) Docket ID Number: EPA-HQ-OECA-2012-0666; Title: NESHAP for the Printing and Publishing Industry (40 CFR part 63, subpart KK); EPA ICR Number 1739.08, OMB Control Number 2060-0335; Expiration Date: April 30, 2016.

Respondents: Facilities in the printing and publishing industry.

Respondent's obligation to respond: Mandatory (40 CFR part 63, subpart KK).

Estimated number of respondents: 352 (total).

Frequency of response: Initially, occasionally and semiannually.

Estimated annual burden: 58,162 hours.

Estimated annual cost: $6,045,789, includes $414,000 annualized capital or O&M costs.

Changes in Estimates: There is no change in burden hours from the previous ICR.

(39) Docket ID Number: EPA-HQ-OECA-2012-0677; Title: NSPS for Storage Vessels for Petroleum Liquids for Which Construction, Reconstruction, or Modification Commenced After June 11, 1973, and prior to May 19, 1978 (40 CFR part 60, subpart K); EPA ICR Number 1797.07, OMB Control Number 2060-0442; Expiration Date: April 30, 2016.

Respondents: Facilities that store petroleum liquids in storage vessels.

Respondent's obligation to respond: Mandatory (40 CFR part 60, subpart K).

Estimated number of respondents: 220 (total).

Frequency of response: Initially and occasionally.

Estimated annual burden: 769 hours.

Estimated annual cost: $74,473, includes $0 annualized capital or O&M costs.

Changes in Estimates: There is no change in burden hours from the previous ICR.

(40) Docket ID Number: EPA-HQ-OECA-2012-0680; Title: Emission Guidelines and Compliance Times for Municipal Solid Waste Landfills (40 CFR part 60, subpart Cc and 40 CFR part 62, subpart GGG); EPA ICR Number 1893.07, OMB Control Number 2060-0430; Expiration Date: April 30, 2016.

Respondents: Municipal solid waste landfills.

Respondent's obligation to respond: Mandatory (40 CFR part 60, subpart Cc and part 62, subpart GGG).

Estimated number of respondents: 511 (total).

Frequency of response: Initially, occasionally and annually.

Estimated annual burden: 42,277 hours.

Estimated annual cost: $4,717,854, includes $663,600 annualized capital or O&M costs.

Changes in Estimates: There is an expected decrease in burden hours from the previous ICR due to landfill closures.

(41) Docket ID Number: EPA-HQ-OECA-2012-0691; Title: NESHAP for Mercury Cell Chlor-Alkali Plants (40 CFR part 63, subpart IIIII); EPA ICR Number 2046.08, OMB Control Number 2060-0542; Expiration Date: April 30, 2016.

Respondents: Mercury cell chlor-alkali plants.

Respondent's obligation to respond: Mandatory (40 CFR part 63, subpart IIIII).

Estimated number of respondents: 2 (total).

Frequency of response: Initially and semiannually.

Estimated annual burden: 3,682 hours.

Estimated annual cost: $372,952, includes $16,400 annualized capital or O&M costs.

Changes in Estimates: There is no change in burden hours from the previous ICR.

(42) Docket ID Number: EPA-HQ-OECA-2012-0693; Title: NESHAP for Taconite Iron Ore Processing (40 CFR part 63, subpart RRRRR); EPA ICR Number 2050.06, OMB Control Number 2060-0538; Expiration Date: April 30, 2016.

Respondents: Taconite iron ore processing plants.

Respondent's obligation to respond: Mandatory (40 CFR part 63, subpart RRRRR).

Estimated number of respondents: 8 (total).

Frequency of response: Initially and semiannually.

Estimated annual burden: 614 hours.

Estimated annual cost: $650,107, includes $257,600 annualized capital or O&M costs.

Changes in Estimates: There is no change in burden hours from the previous ICR.

(43) Docket ID Number: EPA-HQ-OECA-2012-0699; Title: NESHAP for Primary Magnesium Refining (40 CFR part 63, subpart TTTTT); EPA ICR Number 2098.07, OMB Control Number 2060-0536; Expiration Date: April 30, 2016.

Respondents: Primary magnesium refining facilities.

Respondent's obligation to respond: Mandatory (40 CFR part 63, subpart TTTTT).

Estimated number of respondents: 1 (total).

Frequency of response: Initially, occasionally and semiannually.

Estimated annual burden: 611 hours. Burden is defined at 5 CFR 1320.03(b)

Estimated annual cost: $60,410, includes $1,200 annualized capital or O&M costs.

Changes in Estimates: There is no change in burden hours from the previous ICR.

(44) Docket ID Number: EPA-HQ-OECA-2012-0702; Title: NESHAP for Area Sources: Polyvinyl Chloride and Copolymers Production, Primary Copper Smelting, Secondary Copper Smelting, and Primary Nonferrous Metals-Zinc, Cadmium, and Beryllium (40 CFR part 63, subparts DDDDDD, EEEEEE, FFFFFF, and GGGGGG); EPA ICR Number 2240.05, OMB Control Number 2060-0596; Expiration Date: April 30, 2016.

Respondents: PVC and copolymer, primary copper smelters, secondary copper smelters, and primary zinc production facilities.

Respondent's obligation to respond: Mandatory (40 CFR part 63, subparts DDDDDD, EEEEEE, FFFFFF and GGGGGG).

Estimated number of respondents: 5 (total).

Frequency of response: Initially.

Estimated annual burden: 46 hours.

Estimated annual cost: $4,454, includes $0 annualized capital or O&M costs.

Changes in Estimates: There is no change in burden hours from the previous ICR.

(45) Docket ID Number: EPA-HQ-OECA-2012-0703; Title: NESHAP for Prepared Feeds Manufacturing (40 CFR part 63, subpart DDDDDDD); EPA ICR Number 2354.04, OMB Control Number 2060-0635; Expiration Date: April 30, 2016.

Respondents: Prepared feed manufacturing facilities.

Respondent's obligation to respond: Mandatory (40 CFR part 63, subpart DDDDDDD).

Estimated number of respondents: 1,800 (total).

Frequency of response: Initially and annually.

Estimated annual burden: 62,079 hours.

Estimated annual cost: $6,048,294, includes $37,236 annualized capital or O&M costs.

Changes in Estimates: There is no change in burden hours from the previous ICR.

(46) Docket ID Number: EPA-HQ-OECA-2012-0642; Title: NESHAP for Chemical Preparations Industry (40 CFR part 63, subpart BBBBBBB); EPA ICR Number 2356.04, OMB Control Number 2060-0636; Expiration Date: April 30, 2016.

Respondents: Chemical preparation facilities.

Respondent's obligation to respond: Mandatory (40 CFR part 63, subpart BBBBBBB).

Estimated number of respondents: 26 (total).

Frequency of response: Initially and semiannually.

Estimated annual burden: 2,093 hours.

Estimated annual cost: $203,052, includes $390 annualized capital or O&M costs.

Changes in Estimates: There is no change in burden hours from the previous ICR.

(47) Docket ID Number: EPA-HQ-OECA-2012-0643; Title: NSPS for Pressure Sensitive Tape and Label Surface Coating (CFR part 60, subpart RR); EPA ICR Number 0658.12, OMB Control Number 2060-0004; Expiration Date: May 31, 2016.

Respondents: Pressure sensitive tape and label surface coating facilities.

Respondent's obligation to respond: Mandatory (40 CFR part 60, subpart RR).

Estimated number of respondents: 39 (total).

Frequency of response: Initially and semiannually.

Estimated annual burden: 3,652 hours.

Estimated annual cost: $427,962, includes $77,200 annualized capital or O&M costs.

Changes in Estimates: There is an expected increase in burden hours from the previous ICR due to growth in the respondent universe.

(48) Docket ID Number: EPA-HQ-OECA-2012-0688; Title: NESHAP for Plastic Parts and Products Surface Coating (40 CFR part 63, subpart PPPP); EPA ICR Number 2044.06, OMB Control Number 2060-0537; Expiration Date: May 31, 2016.

Respondents: Facilities that perform surface coating of plastic parts and products.

Respondent's obligation to respond: Mandatory (40 CFR part 63, subpart PPPP).

Estimated number of respondents: 832 (total).

Frequency of response: Initially, occasionally and semiannually.

Estimated annual burden: 322,467 hours.

Estimated annual cost: $31,489,594, includes $265,600 annualized capital or O&M costs.

Changes in Estimates: There is an expected increase in burden hours from the previous ICR due to growth in the respondent universe.

(49) Docket ID Number: EPA-HQ-OECA-2012-0695; Title: NESHAP for Site Remediation (40 CFR part 63, subpart GGGGG); EPA ICR Number 2062.06, OMB Control Number 2060-0534; Expiration Date: May 31, 2016.

Respondents: Facilities with site remediation activities.

Respondent's obligation to respond: Mandatory (40 CFR part 63, subpart GGGGG).

Estimated number of respondents: 286 (total).

Frequency of response: Initially and semiannually.

Estimated annual burden: 140,338 hours.

Estimated annual cost: $14,302,488, includes $582,000 annualized capital or O&M costs.

Changes in Estimates: There is no change in burden hours from the previous ICR.

(50) Docket ID Number: EPA-HQ-OECA-2013-0355; Title: NESHAP for Clay Ceramics Manufacturing, Glass Manufacturing and Secondary Nonferrous Metals Processing Area Sources (40 CFR part 63, subparts RRRRRR, SSSSSS, and TTTTTT); EPA ICR Number 2274.05, OMB Control Number 2060-0606; Expiration Date: May 31, 2016.

Respondents: Clay ceramics manufacturing, glass manufacturing, and secondary nonferrous metals processing facilities.

Respondent's obligation to respond: Mandatory (40 CFR part 63, subparts RRRRRR, SSSSSS and TTTTTT).

Estimated number of respondents: 82 (total).

Frequency of response: Initially.

Estimated annual burden: 1,763 hours.

Estimated annual cost: $182,301, includes $9,854 annualized capital or O&M costs.

Changes in Estimates: There is no change in burden hours from the previous ICR.

(51) Docket ID Number: EPA-HQ-OECA-2012-0657; Title: NSPS for Flexible Vinyl and Urethane Coating and Printing (40 CFR part 60, subpart FFF); EPA ICR Number 1157.11, OMB Control Number 2060-0073; Expiration Date: June 30, 2016.

Respondents: Facilities that print or coat flexible vinyl or urethane products.

Respondent's obligation to respond: Mandatory (40 CFR part 60, subpart FFF).

Estimated number of respondents: 24 (total).

Frequency of response: Initially and semiannually.

Estimated annual burden: 775 hours.

Estimated annual cost: $297,664, includes $222,600 annualized capital or O&M costs.

Changes in Estimates: There is an expected increase in burden hours from the previous ICR due to an increase in one respondent.

(52) Docket ID Number: EPA-HQ-OECA-2012-0658; Title: NSPS/NESHAP for Wool Fiberglass Insulation Manufacturing Plants (40 CFR part 60, subpart PPP and 40 CFR part 63, subpart NNN); EPA ICR Number 1160.13, OMB Control Number 2060-0114; Expiration Date: June 30, 2016.

Respondents: Facilities with rotary spin wool fiberglass insulation manufacturing lines.

Respondent's obligation to respond: Mandatory (40 CFR part 60, subpart PPP and part 63, subpart NNN).

Estimated number of respondents: 61 (total).

Frequency of response: Initially, occasionally and semiannually.

Estimated annual burden: 18,559 hours.

Estimated annual cost: $2,285,560, includes $488,500 annualized capital or O&M costs.

Changes in Estimates: There is no change in burden hours from the previous ICR.

(53) Docket ID Number: EPA-HQ-OECA-2015-0190; Title: NSPS for Nitric Acid Plants (40 CFR part 60, subpart G and Ga); EPA ICR Number 1056.12, OMB Control Number 2060-0019; Expiration Date: July 31, 2016.

Respondents: Nitric acid plants.

Respondent's obligation to respond: Mandatory (40 CFR part 60, subparts G and Ga).

Estimated number of respondents: 26 (total).

Frequency of response: Initially, occasionally and semiannually.

Estimated annual burden: 1,921 hours.

Estimated annual cost: $2,805,032, includes $2,618,983 annualized capital or O&M costs.

Changes in Estimates: There is an expected increase in burden hours from the previous ICR due to an increase in the number of respondents.

(54) Docket ID Number: EPA-HQ-OECA-2012-0654; Title: NSPS for Automobile and Light Duty Truck Surface Coating Operations (40 CFR part 60, subpart MM); EPA ICR Number 1064.18, OMB Control Number 2060-0034; Expiration Date: July 31, 2016.

Respondents: Facilities that perform surface coating of automobile and light duty truck.

Respondent's obligation to respond: Mandatory (40 CFR part 60, subpart MM).

Estimated number of respondents: 58 (total).

Frequency of response: Initially, quarterly and semiannually.

Estimated annual burden: 175,195 hours.

Estimated annual cost: $17,067,068, includes $103,200 annualized capital or O&M costs.

Changes in Estimates: There is an expected increase in burden hours from the previous ICR due to an increase in the number of respondents.

(55) Docket ID Number: EPA-HQ-OECA-2012-0656; Title: NSPS for Lead-Acid Battery Manufacturing (40 CFR part 60, subpart KK); EPA ICR Number 1072.11, OMB Control Number 2060-0081; Expiration Date: July 31, 2016.

Respondents: Lead-acid battery manufacturing plants.

Respondent's obligation to respond: Mandatory (40 CFR part 60, subpart KK).

Estimated number of respondents: 52 (total).

Frequency of response: Initially and semiannually.

Estimated annual burden: 4,053 hours.

Estimated annual cost: $404,122, includes $11,700 annualized capital or O&M costs.

Changes in Estimates: There is no change in burden hours from the previous ICR.

(56) Docket ID Number: EPA-HQ-OECA-2012-0499; Title: NSPS for Industrial-Commercial-Institutional Steam Generating Units (40 CFR part 60, subpart Db); EPA ICR Number 1088.14, OMB Control Number 2060-0072; Expiration Date: July 31, 2016.

Respondents: Industrial, commercial, and institutional steam generating units.

Respondent's obligation to respond: Mandatory (40 CFR part 60, subpart Db).

Estimated number of respondents: 1,727 (total).

Frequency of response: Initially, quarterly and semiannually.

Estimated annual burden: 1,607,368 hours.

Estimated annual cost: $190,544,313, includes $34,905,000 annualized capital or O&M costs.

Changes in Estimates: There is an expected increase in burden hours from the previous ICR due to an increase in the estimated number of respondents.

(57) Docket ID Number: EPA-HQ-OECA-2012-0660; Title: NESHAP for Halogenated Solvent Cleaners/Halogenated Hazardous Air Pollutants (40 CFR part 63, subpart T); EPA ICR Number 1652.09, OMB Control Number 2060-0273; Expiration Date: July 31, 2016.

Respondents: Facilities with halogenated HAP solvent cleaning machines.

Respondent's obligation to respond: Mandatory (40 CFR part 63, subpart T).

Estimated number of respondents: 1,431 (total).

Frequency of response: Initially, quarterly, semiannually and annually.

Estimated annual burden: 45,242 hours.

Estimated annual cost: $5,395,561, includes $1,014,800 annualized capital or O&M costs.

Changes in Estimates: There is no change in burden hours from the previous ICR.

(58) Docket ID Number: EPA-HQ-OECA-2012-0665; Title: NESHAP for Magnetic Tape Manufacturing Operations (40 CFR part 63, subpart EE); EPA ICR Number 1678.09, OMB Control Number 2060-0326; Expiration Date: July 31, 2016.

Respondents: Magnetic tape manufacturing facilities.

Respondent's obligation to respond: Mandatory (40 CFR part 63, subpart EE).

Estimated number of respondents: 6 (total).

Frequency of response: Initially and occasionally.

Estimated annual burden: 3,905 hours.

Estimated annual cost: $425,110, includes $47,000 annualized capital or O&M costs.

Changes in Estimates: There is no change in burden hours from the previous ICR.

(59) Docket ID Number: EPA-HQ-OECA-2012-0668; Title: NESHAP for Flexible Polyurethane Foam Production (40 CFR part 63, subpart III); EPA ICR Number 1783.07, OMB Control Number 2060-0357; Expiration Date: July 31, 2016.

Respondents: Flexible polyurethane foam production facilities.

Respondent's obligation to respond: Mandatory (40 CFR part 63, subpart III).

Estimated number of respondents: 132 (total).

Frequency of response: Initially, semiannually and annually.

Estimated annual burden: 9,047 hours.

Estimated annual cost: $874,812, includes $0 annualized capital or O&M costs.

Changes in Estimates: There is no change in burden hours from the previous ICR.

(60) Docket ID Number: EPA-HQ-OECA-2012-0669; Title: NESHAP for Oil and Natural Gas Production (40 CFR part 63, subpart HH); EPA ICR Number 1788.11, OMB Control Number 2060-0417; Expiration Date: July 31, 2016.

Respondents: Oil and natural gas production facilities.

Respondent's obligation to respond: Mandatory (40 CFR part 63, subpart HH).

Estimated number of respondents: 3,735 (total).

Frequency of response: Initially, occasionally and semiannually.

Estimated annual burden: 46,642 hours.

Estimated annual cost: $5,431,638, includes $910,733 annualized capital or O&M costs.

Changes in Estimates: There is an expected increase in burden hours from the previous ICR due to an increase in the estimated number of respondents.

(61) Docket ID Number: EPA-HQ-OECA-2012-0676; Title: NESHAP for Phosphoric Acid Manufacturing and Phosphate Fertilizers Production (40 CFR part 63, subparts AA and BB); EPA ICR Number 1790.07, OMB Control Number 2060-0361; Expiration Date: July 31, 2016.

Respondents: Phosphoric acid manufacturing and phosphate fertilizer production facilities.

Respondent's obligation to respond: Mandatory (40 CFR part 63, subparts AA and BB).

Estimated number of respondents: 12 (total).

Frequency of response: Initially, occasionally, quarterly, semiannually and annually.

Estimated annual burden: 1,765 hours.

Estimated annual cost: $181,581, includes $10,632 annualized capital or O&M costs.

Changes in Estimates: There is no change in burden hours from the previous ICR.

(62) Docket ID Number: EPA-HQ-OECA-2012-0678; Title: NESHAP for Mineral Wool Production (40 CFR part 63, subpart DDD); EPA ICR Number 1799.09, OMB Control Number 2060-0362; Expiration Date: July 31, 2016.

Respondents: Mineral wool production facilities.

Respondent's obligation to respond: Mandatory (40 CFR part 63, subpart DDD).

Estimated number of respondents: 6 (total).

Frequency of response: Initially and semiannually.

Estimated annual burden: 1,581 hours.

Estimated annual cost: $157,566, includes $4,500 annualized capital or O&M costs.

Changes in Estimates: There is no change in burden hours from the previous ICR.

(63) Docket ID Number: EPA-HQ-OECA-2012-0701; Title: NESHAP for Miscellaneous Coating Manufacturing (40 CFR part 63, subpart HHHHH); EPA ICR Number 2115.05, OMB Control Number 2060-0535; Expiration Date: July 31, 2016.

Respondents: Facilities that manufacture a miscellaneous coating.

Respondent's obligation to respond: Mandatory (40 CFR part 63, subpart HHHHH).

Estimated number of respondents: 135 (total).

Frequency of response: Initially, occasionally and semiannually.

Estimated annual burden: 171,406 hours.

Estimated annual cost: $19,475,893, includes $2,878,500 annualized capital or O&M costs.

Changes in Estimates: There is an expected increase in burden hours from the previous ICR due to an increase in the estimated number of respondents.

(64) Docket ID Number: EPA-HQ-OECA-2012-0646; Title: NSPS for Incinerators (40 CFR part 60, subpart E); EPA ICR Number 1058.11, OMB Control Number 2060-0040; Expiration Date: August 31, 2016.

Respondents: Incinerators constructed or modified after August 17, 1971.

Respondent's obligation to respond: Mandatory (40 CFR part 60, subpart E).

Estimated number of respondents: 82 (total).

Frequency of response: Initially and occasionally.

Estimated annual burden: 8,393 hours.

Estimated annual cost: $1,017,654, includes $205,000 annualized capital or O&M costs.

Changes in Estimates: There is no change in burden hours from the previous ICR.

(65) Docket ID Number: EPA-HQ-OECA-2012-0664; Title: NESHAP for Commercial Ethylene Oxide Sterilization and Fumigation Operations (40 CFR part 63, subpart O); EPA ICR Number 1666.10, OMB Control Number 2060-0283; Expiration Date: August 31, 2016.

Respondents: Ethylene oxide sterilization and fumigation facilities.

Respondent's obligation to respond: Mandatory (40 CFR part 63, subpart O).

Estimated number of respondents: 122 (total).

Frequency of response: Initially and occasionally.

Estimated annual burden: 8,887 hours.

Estimated annual cost: $1,524,913, includes $664,500 annualized capital or O&M costs.

Changes in Estimates: There is an expected increase in burden hours from the previous ICR due to an increase in the estimated number of respondents.

(66) Docket ID Number: EPA-HQ-OECA-2012-0681; Title: NSPS for Commercial and Industrial Solid Waste Incineration Units (40 CFR part 60, subpart CCC); EPA ICR Number 1926.07, OMB Control Number 2060-0450; Expiration Date: August 31, 2016.

Respondents: Commercial and industrial solid waste incineration units.

Respondent's obligation to respond: Mandatory (40 CFR part 60, subpart CCC).

Estimated number of respondents: 30 (total).

Frequency of response: Initially, occasionally and annually.

Estimated annual burden: 5,965 hours.

Estimated annual cost: $959,788, includes $382,200 annualized capital or O&M costs.

Changes in Estimates: There is no change in burden hours from the previous ICR.

(67) Docket ID Number: EPA-HQ-OECA-2012-0685; Title: Emission Guidelines for Existing Commerce and Industrial Solid Waste Incineration Units (40 CFR part 60, subpart DDDD); EPA ICR Number 1927.07, OMB Control Number 2060-0451; Expiration Date: August 31, 2016.

Respondents: Commercial and industrial solid waste incineration units.

Respondent's obligation to respond: Mandatory (40 CFR part 60, subpart DDDD).

Estimated number of respondents: 90 (total).

Frequency of response: Initially, occasionally and annually.

Estimated annual burden: 18,061 hours.

Estimated annual cost: $2,892,789, includes $1,143,990 annualized capital or O&M costs.

Changes in Estimates: There is no change in burden hours from the previous ICR.

(68) Docket ID Number: EPA-HQ-OECA-2012-0686; Title: NESHAP for Organic Liquids Distribution (Non-Gasoline) Facilities (40 CFR part 63, subpart EEEE); EPA ICR Number 1963.06, OMB Control Number 2060-0539; Expiration Date: August 31, 2016.

Respondents: Organic liquids distribution facilities.

Respondent's obligation to respond: Mandatory (40 CFR part 63, subpart EEEE).

Estimated number of respondents: 381 (total).

Frequency of response: Initially and semiannually.

Estimated annual burden: 114,667 hours.

Estimated annual cost: $19,770,006, includes $8,559,164 annualized capital or O&M costs.

Changes in Estimates: There is no change in burden hours from the previous ICR.

(69) Docket ID Number: EPA-HQ-OECA-2012-0697; Title: NESHAP for Iron and Steel Foundries (40 CFR part 63, subpart EEEEE); EPA ICR Number 2096.06, OMB Control Number 2060-0543; Expiration Date: August 31, 2016.

Respondents: Iron and steel foundries.

Respondent's obligation to respond: Mandatory (40 CFR part 63, subpart EEEEE).

Estimated number of respondents: 98 (total).

Frequency of response: Initially, occasionally and semiannually.

Estimated annual burden: 29,747 hours.

Estimated annual cost: $3,309,697, includes $400,060 annualized capital or O&M costs.

Changes in Estimates: There is no change in burden hours from the previous ICR.

(70) Docket ID Number: EPA-HQ-OECA-2012-0662; Title: NESHAP for Gasoline Distribution Facilities (40 CFR part 63, subpart R); EPA ICR Number 1659.09, OMB Control Number 2060-0325; Expiration Date: September 30, 2016.

Respondents: Bulk gasoline terminals.

Respondent's obligation to respond: Mandatory (40 CFR part 63, subpart R).

Estimated number of respondents: 492 (total).

Frequency of response: Initially and semiannually.

Estimated annual burden: 15,823 hours.

Estimated annual cost: $1,904,020, includes $357,000 annualized capital or O&M costs.

Changes in Estimates: There is no change in burden hours from the previous ICR.

(71) Docket ID Number: EPA-HQ-OECA-2012-0687; Title: NESHAP for Stationary Combustion Turbines (40 CFR part 63, subpart YYYY); EPA ICR Number 1967.06, OMB Control Number 2060-0540; Expiration Date: September 30, 2016.

Respondents: Stationary combustion turbines constructed or reconstructed after January 14, 2003.

Respondent's obligation to respond: Mandatory (40 CFR part 63, subpart YYYY).

Estimated number of respondents: 96 (total).

Frequency of response: Initially, semiannually and annually.

Estimated annual burden: 1,338 hours.

Estimated annual cost: $165,056, includes $10,750 annualized capital or O&M costs.

Changes in Estimates: There is an expected increase in burden hours from the previous ICR due to an increase in the estimated number of respondents.

(72) Docket ID Number: EPA-HQ-OECA-2012-0690; Title: NESHAP for Automobile and Light-duty Truck Surface Coating (40 CFR part 63, subpart IIII); EPA ICR Number 2045.06, OMB Control Number 2060-0550; Expiration Date: September 30, 2016.

Respondents: Facilities that perform surface coating on automobiles and light-duty trucks.

Respondent's obligation to respond: Mandatory (40 CFR part 63, subpart IIII).

Estimated number of respondents: 65 (total).

Frequency of response: Initially, occasionally and semiannually.

Estimated annual burden: 26,685 hours.

Estimated annual cost: $2,688,147, includes $78,000 annualized capital or O&M costs.

Changes in Estimates: There is no change in burden hours from the previous ICR.

Dated: May 27, 2015.
Edward J. Messina,
Director, Monitoring, Assistance and Media Programs Division.

[FR Doc. 2015-13808 Filed 6-4-15; 8:45 am]

BILLING CODE 6560-50-P